DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 14, 2009.

Interested persons are invited to submit written comments regarding the subject matter of the investigations to the Director, Division of Trade Adjustment Assistance, at the address shown below, not later than September 14, 2009.

The petitions filed in this case are available for inspection at the Division of Trade Adjustment Assistance, Employment and Training Administration, U.S. Department of Labor, Room N-5428, 200 Constitution Avenue, NW., Washington, DC 20210.

Signed at Washington, DC, this 19th day of August 2009.
Linda G. Poole,
Certifying Officer, Division of Trade Adjustment Assistance.

Appendix
[TAA petitions instituted between 6/8/09 and 6/12/09]
TA-W | Subject firm (petitioners) | Location | Date of institution | Date of petition
71031 | International Business Machines Corporation (Wkrs) | Endicott, NY | 06/08/09 | 05/20/09
71032 | Agy Holding Corporation (Union) | Huntingdon, PA | 06/08/09 | 06/04/09
71033 | Jessem Tool Company (Wkrs) | Greeneville, TN | 06/08/09 | 05/19/09
71034 | Farbacher Automotive (Comp) | Sharpsburg, PA | 06/08/09 | 06/04/09
71035 | Prestige Printing (Comp) | Madison, TN | 06/08/09 | 06/05/09
71036 | Ametek, Inc. (Union) | Kent, OH | 06/08/09 | 06/02/09
71037 | Chardon Rubber Company (USW) | Chardon, OH | 06/08/09 | 06/04/09
71038 | General Pattern Company (State) | Blaine, MN | 06/08/09 | 06/05/09
71039 | Mitsubishi Electric Automotive America, Inc. (Comp) | Mason, OH | 06/08/09 | 06/05/09
71040 | United States Steel—Granite City Works (USW) | Granite City, IL | 06/08/09 | 06/05/09
71041 | Menlo Worldwide Logistics (Wkrs) | Brownstown, MI | 06/08/09 | 06/03/09
71042 | Pacific Rail Services (Wkrs) | Seattle, WA | 06/08/09 | 06/05/09
71043 | Philip Morris (IAMAW) | Concord, NC | 06/08/09 | 05/29/09
71044 | Weastec Inc. (Comp) | Hillsboro, OH | 06/08/09 | 06/05/09
71045 | Bayer Films Americas (State) | Plainville, CT | 06/08/09 | 05/05/09
71046 | Dresser Waukesha (Union) | Waukesha, WI | 06/08/09 | 05/05/09
71047 | Chrysler LLC, Technical Training Center (Comp) | Detroit, MI | 06/08/09 | 05/27/09
71048 | Warren Corporation (State) | Stafford Springs, CT | 06/08/09 | 06/05/09
71049 | Chrysler Corp, LLC Warren Office Building (Wkrs) | Warren, MI | 06/08/09 | 05/27/09
71050 | Xalay, Inc. (Wkrs) | Pulaski, VA | 06/08/09 | 06/02/09
71051 | Seymour Tubing Inc. (Comp) | Dunlap, TN | 06/08/09 | 06/05/09
71052 | Clarity Technologies, Inc. (State) | Auburn Hills, MI | 06/08/09 | 06/06/09
71053 | Electrolux Home Products, Inc (Union) | Jefferson, IA | 06/08/09 | 06/05/09
71054 | Apria Healthcare (Comp) | Foothill Ranch, CA | 06/08/09 | 06/05/09
71055 | Milliken—Johnston Plant (State) | Johnston, SC | 06/09/09 | 05/19/09
71056 | Stanadyne Corp (State) | Windsor, CT | 06/09/09 | 06/04/09
71057 | Hall Transport (State) | Clarinda, IA | 06/09/09 | 06/05/09
71058 | WellPoint Inc (Wkrs) | Richmond, VA | 06/09/09 | 06/05/09
71059 | Rite Hite/Duct Sox (Wkrs) | Dubuque, IA | 06/09/09 | 05/27/09
71060 | Carhartt, Inc (Comp) | Marrowbone, KY | 06/09/09 | 06/06/09
71061 | Elkay Manufacturing Company (Comp) | Oak Brook, IL | 06/09/09 | 06/08/09
71062 | Kautex Textron (Wkrs) | Lavonia, GA | 06/09/09 | 06/05/09
71063 | Precision Compacted Components, Inc (Comp) | Wilcox, PA | 06/09/09 | 06/05/09
71064 | Premedia Global, Inc. (Comp) | York, PA | 06/09/09 | 05/19/09
71065 | NOV/Hydra Rig (Wkrs) | Duncan, OK | 06/09/09 | 06/05/09
71066 | North American Hoganas (Comp) | Hollsopple, PA | 06/09/09 | 06/08/09
71067 | Plastic Trim International, Inc (Comp) | East Tawas, MI | 06/09/09 | 06/08/09
71068 | JDS Uniphase (Comp) | Germantown, MD | 06/09/09 | 06/08/09
71069 | BonaKemi USA, Inc., Monroe Production (Comp) | Monroe, NC | 06/09/09 | 06/08/09
71070 | Parkside Mortgage Corporation (Comp) | Philadelphia, PA | 06/09/09 | 06/08/09
71071 | Dura Operating Systems d/b/a Dura Automotive Systems, Inc. (State) | Rochester Hills, MI | 06/09/09 | 06/01/09
71072 | Stanley Tools—Pittsfield Plant (Comp) | Pittsfield, VT | 06/09/09 | 06/08/09
71073 | General Motors Acceptance Corp (Wkrs) | Winston-Salem, NC | 06/09/09 | 06/04/09
71074 | American Roller Bearing (Comp) | Hiddenite, NC | 06/09/09 | 06/03/09
71075 | Umicore Cobalt Specialty Materials (Comp) | Maxton, NC | 06/09/09 | 06/02/09
71076 | ITT Corporation (Comp) | Santa Ana, CA | 06/09/09 | 06/08/09
71077 | Wal-Mart Stores East, LP (Wkrs) | Lockbourne, OH | 06/09/09 | 06/05/09
71078 | Noble Metal Processing, KY-G.P. (Comp) | Shelbyville, KY | 06/09/09 | 06/08/09
71079 | Ametek Aerospace Seattle Support Center (Comp) | Mukilteo, WA | 06/09/09 | 06/08/09
71080 | Umicore Cobalt Specialty Materials (Comp) | Maxton, NC | 06/09/09 | 06/02/09
71081 | Wachovia Bank NA (Wkrs) | Reading, PA | 06/09/09 | 06/08/09
71082 | Hart & Cooley, Inc. (Comp) | Grand Rapids, MI | 06/09/09 | 06/04/09
71083 | Johnson Brothers Contracting, Inc. (Wkrs) | Missoula, MT | 06/09/09 | 06/05/09
71084 | Sierra Pacific Industries (Wkrs) | Quincy, CA | 06/09/09 | 05/19/09
71085 | IBM/BTD/Tulsa (Wkrs) | Tulsa, OK | 06/09/09 | 06/03/09
71086 | Apria Healthcare (Comp) | Foothill Ranch, CA | 06/09/09 | 06/05/09
71087 | Formed Fiber Technologies (Comp) | Sidney, OH | 06/09/09 | 06/09/09
71088 | Cubicon (Wkrs) | Ripley, MS | 06/09/09 | 06/04/09
71089 | Cowin and Company, Inc. (State) | Birmingham, AL | 06/09/09 | 05/19/09
71090 | Avaya, Inc. (State) | Westminster, CO | 06/09/09 | 06/02/09
71091 | Computer Science Corporation (State) | Austin, TX | 06/09/09 | 05/22/09
71092 | Neocork Technologies (Wkrs) | Napa, CA | 06/09/09 | 05/18/09
71093 | Bill Wink Chevrolet (Comp) | Dearborn, MI | 06/09/09 | 06/08/09
71094 | Duro Textiles, LLC (Comp) | Fall River, MA | 06/09/09 | 06/01/09
71095 | Future Die Cast and Engineering, Inc. (Wkrs) | Shelby Township, MI | 06/09/09 | 06/03/09
71096 | Harsco—Windpoint (Union) | Harrisburg, PA | 06/09/09 | 05/20/09
71097 | Commercial Vehicle Group/Trim Systems (Comp) | Dublin, VA | 06/09/09 | 05/28/09
71098 | American Roller Bearing (Comp) | Hiddenite, NC | 06/09/09 | 06/03/09
71099 | Seymour Tubing, Inc. (Comp) | Dunlap, TN | 06/09/09 | 06/05/09
71100 | Standard Precision Manufacturing (Comp) | Meadville, PA | 06/09/09 | 06/01/09
71101 | Stroh Die Casting Company, Inc (Union) | Milwaukee, WI | 06/09/09 | 06/05/09
71102 | Centocor (Wkrs) | Malvern, PA | 06/09/09 | 06/02/09
71103 | Circor Energy (Wkrs) | OKC, OK | 06/09/09 | 06/01/09
71104 | Ashland, Inc. (Wkrs) | Pittsburgh, PA | 06/09/09 | 06/08/09
71105 | Medtronic, Inc (State) | Mounds View, MN | 06/09/09 | 06/08/09
71106 | Paris Accessories (Union) | New Smithville, PA | 06/09/09 | 05/27/09
71107 | Northfield Foundry and Machine Co. (State) | Northfield, MN | 06/09/09 | 06/08/09
71108 | Air Way Automation, Inc. (Comp) | Grayling, MI | 06/09/09 | 06/08/09
71109 | Micro Component Technology (MCT) (State) | St. Paul, MN | 06/09/09 | 06/08/09
71110 | International Decisions Systems (State) | Minneapolis, MN | 06/09/09 | 06/08/09
71111 | Evraz North America (Wkrs) | Portland, OR | 06/09/09 | 06/08/09
71112 | Collins Ink Corporation (Wkrs) | Cincinnati, OH | 06/09/09 | 06/09/09
71113A | Mitsubishi Heavy Industries (Comp) | Greenwood, IN | 06/09/09 | 06/09/09
71113 | Mitsubishi Heavy Industries (Comp) | Franklin, IN | 06/09/09 | 06/09/09
71114 | Engineered Machined Products, Inc. (Union) | Greenfield, IN | 06/09/09 | 05/19/09
71115 | Capital Records, LLC (Comp) | Jacksonville, IL | 06/09/09 | 06/09/09
71116 | Russell Brands, LLC/Fabrics (Comp) | Alexander City, AL | 06/09/09 | 05/18/09
71117 | Sapa HE Tubing, Inc. (Union) | Louisville, KY | 06/09/09 | 06/09/09
71118 | Rexnord Engineered Chain LLC (Union) | West Milwaukee, WI | 06/09/09 | 06/09/09
71119 | Hunter Douglas (Wkrs) | Renton, WA | 06/09/09 | 06/05/09
71120 | Atlas Copco Comptec, LLC (Wkrs) | Voorheesville, NY | 06/09/09 | 06/03/09
71121 | Albion Associates Inc. (Wkrs) | High Point, NC | 06/10/09 | 06/02/09
71122 | Masimo (Other) | Irvine, CA | 06/10/09 | 06/08/09
71123 | Schott Solar Inc (Wkrs) | Billerica, MA | 06/10/09 | 06/09/09
71124 | ACTCO Tool & Mfg. Co. (Comp) | Meadville, PA | 06/10/09 | 06/10/09
71125 | Intra Corporation (Comp) | Westland, MI | 06/10/09 | 06/10/09
71126 | Hynix Semiconductor America (State) | Eugene, OR | 06/10/09 | 06/09/09
71127 | Lear Corporation Lordstown Facility (Union) | Lordstown, OH | 06/10/09 | 06/09/09
71128 | H.P.G. International (Union) | Mountain Top, PA | 06/10/09 | 06/09/09
71129 | Shakespeare Monofilaments, LLC (State) | Columbia, SC | 06/10/09 | 06/09/09
71130 | Affiliated Computer Services (Wkrs) | Dallas, TX | 06/10/09 | 05/21/09
71131 | Reliant Manufacturing Service LLC (Comp) | Longmont, CO | 06/10/09 | 06/08/09
71132 | General Motors Fabricating Division (Union) | Grand Rapids, MI | 06/10/09 | 05/20/09
71133 | DSI Ground Support (Wkrs) | Blairsville, PA | 06/10/09 | 06/03/09
71134 | Leech Industries, Inc (Comp) | Meadville, PA | 06/10/09 | 06/03/09
71135 | Noble Metal Processing Ohio—LLC (Wkrs) | Stow, OH | 06/10/09 | 06/08/09
71136 | Chrysler LLC, Conner Ave Assembly (Union) | Detroit, MI | 06/10/09 | 05/27/09
71137 | Bowne of Detroit (Wkrs) | Detroit, MI | 06/10/09 | 06/09/09
71138 | Schrader-Bridgeport International Incorporated (Wkrs) | Altavista, VA | 06/10/09 | 06/09/09
71139 | Techne, Inc. (Comp) | Scottsburg, IN | 06/11/09 | 06/04/09
71140 | TBA-Leitchfield Plant (Comp) | Leitchfield, KY | 06/11/09 | 06/10/09
71141 | Ruud Lighting, Inc. (Wkrs) | Racine, WI | 06/11/09 | 05/28/09
71142 | Plaza Travel (16505) | Hermitage, PA | 06/11/09 | 06/09/09
71143 | Oakdale Cotton Mills, Inc. (Comp) | Jamestown, NC | 06/11/09 | 06/10/09
71144 | Pink Frog Interactive, Inc. (Comp) | Pittsburgh, PA | 06/11/09 | 06/09/09
71145 | St. Marys Carbon Company (Wkrs) | Brookville, PA | 06/11/09 | 06/10/09
71146 | Sanford Brands—A Newell Rubbermaid Company (Comp) | Shelbyville, TN | 06/11/09 | 06/10/09
71147 | NNR Global Logistics USA, Inc. (State) | Itasca, IL | 06/11/09 | 06/10/09
71148 | Avistrap an ITW Company (Comp) | Lewistown, PA | 06/11/09 | 06/11/09
71149 | Alcoa Mill Products Texarkana (Union) | Nash, TX | 06/11/09 | 06/11/09
71150 | Seton Company Americas Sales Office (Comp) | Farmington Hills, MI | 06/11/09 | 06/10/09
71151 | J and D Manufacturing (State) | Eau Claire, WI | 06/11/09 | 06/10/09
71152 | Noble Metal Processing (Comp) | South Haven, MI | 06/11/09 | 06/10/09
71153 | DeRoyal Textiles, Inc. (Comp) | Camden, SC | 06/11/09 | 06/10/09
71154 | Shogren, Inc. (Wkrs) | Concord, NC | 06/11/09 | 06/10/09
71155 | Boise Cascade, LLC (AFLCIO) | Medford, OR | 06/11/09 | 06/10/09
71156 | G-Seven Ltd (Comp) | Hatfield, PA | 06/11/09 | 06/10/09
71157 | JDS Uniphase (Comp) | Indianapolis, IN | 06/11/09 | 06/09/09
71158 | Supervalu, Inc. (Comp) | Eden Prairie, MN | 06/11/09 | 06/11/09
71159 | RHI Monofrax, Ltd (Comp) | Falconer, NY | 06/11/09 | 06/10/09
71160 | TTM Technologies (State) | Stafford, CT | 06/11/09 | 06/10/09
71161 | Standard Motor Products, Inc. (Comp) | Long Island City, NY | 06/11/09 | 06/10/09
71162 | Husky Injection Molding Systems, Inc. (Comp) | Cheektowaga, NY | 06/11/09 | 06/10/09
71163 | Erickson Air Crane (Wkrs) | Central Point, OR | 06/11/09 | 05/27/09
71164 | Fortis Plastics, LLC (Comp) | Brownsville, TX | 06/11/09 | 06/09/09
71165 | Darly Custom Technology, Inc. (State) | Bloomfield, CT | 06/11/09 | 06/10/09
71166 | Franklin Electronic Publishing (State) | Burlington, NJ | 06/11/09 | 06/10/09
71167 | Cattron Group International >(Wkrs) | Sharpsville, PA | 06/11/09 | 06/10/09
71168 | Agilent Technologies, EEs of Division (Comp) | Westlake Village, CA | 06/11/09 | 06/02/09
71168A | Agilent Technologies, EEs of Division (Comp) | Santa Rosa, CA | 06/11/09 | 06/02/09
71168D | Agilent Technologies, EEs of Division (Comp) | Everett, WA | 06/11/09 | 06/02/09
71168C | Agilent Technologies, EEs of Division (Comp) | Alpharetta, CA | 06/11/09 | 06/02/09
71168B | Agilent Technologies, EEs of Division (Comp) | Santa Clara, CA | 06/11/09 | 06/02/09
71169 | Woco Motor Acoustic Systems, Inc. (Wkrs) | Warren, MI | 06/11/09 | 06/02/09
71170 | Corning (Wkrs) | Danville, VA | 06/11/09 | 06/10/09
71171 | Cargill, Incorporated (Comp) | Decatur, AL | 06/11/09 | 06/10/09
71172 | Penda Corporation (UAW) | Lapeer, MI | 06/11/09 | 06/09/09
71173 | Penske Logistics (Comp) | Reading, PA | 06/11/09 | 06/11/09
71174 | General Electric (Wkrs) | Erie, PA | 06/12/09 | 06/10/09
71175 | Resinoid Engineering Corporation (Wkrs) | Heath, OH | 06/12/09 | 06/04/09
71176 | Euclid Industries, Inc. (Comp) | Bay City, MI | 06/12/09 | 06/11/09
71177 | Daimler Truck North American, LLC (Wkrs) | Portland, OR | 06/12/09 | 06/09/09
71178 | Anderson Global (IAMAW) | Muskegon Heights, MI | 06/12/09 | 06/10/09
71179 | Citibank/Citigroup (Wkrs) | Hagerstown, MD | 06/12/09 | 06/08/09
71180 | Bracalente Manufacturing Company (Wkrs) | Trumbaursville, PA | 06/12/09 | 06/01/09
71181 | Philips Electronics (Comp) | Snoqualmie, WA | 06/12/09 | 06/10/09
71182 | R and B Fabrication, Inc. (Wkrs) | Oakwood, OH | 06/12/09 | 06/10/09
71183 | Cintas Corporation (Comp) | Portal, GA | 06/12/09 | 06/10/09
71184 | John Maneely Company (USWA) | Sharon, PA | 06/12/09 | 06/09/09
71185 | Caterpillar, Inc. (Wkrs) | Pendergrass, GA | 06/12/09 | 06/12/09
71186 | Vertis Communications (State) | North Haven, CT | 06/12/09 | 06/12/09
71187 | Cisco Systems, Inc. (Wkrs) | Boxborough, MA | 06/12/09 | 05/18/09
71188 | Delta Faucet Company (Comp) | Greensburg, IN | 06/12/09 | 06/09/09
71189 | Morgan Advanced Materials and Technology, Inc. (IUECWA) | St. Marys, PA | 06/12/09 | 06/11/09
71190 | JIT Services, LLC (Wkrs) | Peachtree City, GA | 06/12/09 | 06/10/09
71191 | Detroit Diesel Remanufacturing East (Comp) | Byesville, OH | 06/12/09 | 06/11/09
71192 | Auto Truck Transport (Wkrs) | Mt. Holly, NC | 06/12/09 | 06/01/09
71193 | Tyler Refrigeration Company (USW) | Niles, MI | 06/12/09 | 06/10/09
71194 | Delphi Rochester Operations (UAW) | Rochester, NY | 06/12/09 | 05/20/09
71195 | Timken ? Bucyrus Operations (Comp) | Bucyrus, OH | 06/12/09 | 06/11/09
71196 | Invensys Process Systems/Triconex (Comp) | Foxboro, MA | 06/12/09 | 06/11/09
71197 | RM Mechnical, Inc. (Wkrs) | Boise, ID | 06/12/09 | 05/26/09
71198 | Chrysler LLC (Wkrs) | Fenton, MO | 06/12/09 | 06/10/09
71199 | Appleton Papers, Inc. (USW) | Appleton, WI | 06/12/09 | 06/12/09
71200 | Caplugs (Union) | Erie, PA | 06/12/09 | 05/24/09
71201 | Formed Fiber Technologies, Inc. (Comp) | Auburn, ME | 06/12/09 | 06/12/09
71202 | Sappi Fine Paper N.A. (USW) | Muskegon, MI | 06/12/09 | 06/12/09
71203 | Datex Ohmeda/GE Healthcare (IAWAW) | Madison, WI | 06/12/09 | 06/10/09

[FR Doc. E9-21158 Filed 9-1-09; 8:45 am]

BILLING CODE 4510-FN-P